DEPARTMENT OF HOMELAND SECURITY

Transportation Security Administration

Intent to Request Approval From OMB of One New Public Collection of Information: National Explosives Detection Canine Team Program (NEDCTP), Training Course Feedback Forms

AGENCY: Transportation Security Administration, DHS.

ACTION: Notice.

SUMMARY: The Transportation Security Administration (TSA) invites public comment on a new information collection requirement abstracted below that we will submit to the Office of Management and Budget (OMB) for approval in compliance with the Paperwork Reduction Act.

DATES: Send your comments by October 10, 2006.

ADDRESSES: Comments may be mailed or delivered to Katrina Wawer, Attorney-Advisor, Office of the Chief Counsel, TSA-2, Transportation Security Administration, 601 South 12th Street, Arlington, VA 22202-4220.

FOR FURTHER INFORMATION CONTACT: Katrina Wawer at the above address, or by telephone (571) 227-1995 or facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

The National Explosives Detection Canine Team Program (NEDCTP) is a component of TSA's Office of Law Enforcement/Federal Air Marshal Service and is a cooperative partnership with participating airports and mass transit systems. TSA provides and trains the canines, in-depth training for the handlers, and partially reimburses the participating agency for costs associated with the teams, such as salaries, overtime, canine food, and veterinary care. Following training, handlers and supervisors are requested to complete TSA's Training Course Feedback Form, which captures numerical ratings and written comments about the quality of training instruction. The data collected provides valuable feedback to the program director, key staff members, instructional staff, and supervisors on how the material was presented and received. The feedback is collected, analyzed, and implementation of positive program changes occur as a result of the student/handler data collected.

Description of Data Collection

Each student inputs the data into the Canine Web Site electronically prior to their departure from the training environment. Each student that graduates from the course of instruction completes the feedback form, which is part of the course curriculum. The estimated burden is approximately one hour or less per participant to read, answer, and return the questions. TSA estimates approximately 150 course graduates will complete the form on an annual basis, for an annual hour burden of 150 hours.

Use of Results

The TSA Headquarters NEDCTP staff and the Canine Support Branch in San Antonio, Texas, use these results to continuously evaluate the quality of training and improve the course curriculum and course of instruction. Additionally, the collected feedback provides for new ideas, best practices, and insight on the overall canine training program that TSA can evaluate during annual formal review of current course curriculum. TSA disseminates the information to a limited amount of NEDCTP staff on an as needed basis. The program director reviews each of the feedback forms.

Issued in Arlington, Virginia, on August 3, 2006.
Peter Pietra,
Director of Privacy Policy and Compliance.

[FR Doc. E6-12888 Filed 8-8-06; 8:45 am]

BILLING CODE 9110-05-P